DEPARTMENT OF TRANSPORTATION (DOT)

Federal Aviation Administration

Notice of Intent To Rule on a Land Release Request at Albany International Airport, Albany, NY.

AGENCY: Federal Aviation Administration (FAA), DOT.

ACTION: Notice and request for comment.

SUMMARY: The FAA is requesting public comment for a land release and sale of 11.972 acres of federally obligated airport property at Albany International Airport, Albany, NY, to accommodate the construction of a new highway access ramp connecting Albany Shaker Road to Interstate 87. This acreage was originally purchased with federal financial assistance through the AIP program under Grant Agreements 3-36-0001-062-1999, 3-36-0001-092-2007, and 3-36-0001-105-2009. In accordance with federal regulations, this notice is required to be published in the Federal Register 30 days before releasing the grant assurances that require the property to be used for an aeronautical purpose.

DATES: Comments must be received on or before July 6, 2017.

ADDRESSES: Comments on this application may be mailed or delivered to the following address: John O'Donnell, Chief Executive Officer, Albany International Airport, Albany County Airport Authority, Administration Building, Suite 200, Albany, NY 12211-1057, (518) 242-2222.

and at the FAA New York Airports District Office: Evelyn Martinez, Manager, New York Airports District Office, 1 Aviation Plaza, Jamaica, NY 11434, (718) 995-5771.

FOR FURTHER INFORMATION CONTACT: Ryan Allen, Community Planner, New York Airports District Office, 1 Aviation Plaza, Jamaica, NY 11434. (718) 995-5677.

The land release request for the sale and disposal of 11.972 acres of federally obligated airport property at Albany International Airport, Albany, NY may be reviewed in person at the New York Airports District Office located at 159-30 Rockaway Blvd., Suite 111, Jamaica, NY 11434.

SUPPLEMENTARY INFORMATION: The following is a brief overview of the request:

The Albany County Airport Authority has submitted a land release request seeking FAA approval for the sale and disposal of approximately 11.972 acres of federally obligated airport property to the New York Department of Transportation (NYSDOT) for the purpose of accommodating the construction of a new highway access ramp connecting Albany Shaker Road to Interstate 87, also known as the Adirondack Northway Exit 4 Project. The project will include new highway construction with access improvements, new bridge construction associated with the access improvements, and the replacement of the existing Northway bridges over Albany Shaker Road.

The parcels for this project are known as Tax Lots 30.-5-1, 2, 3, 4, & 9 in Colonie, NY, and will be subdivided to account for a total of 11.972 acres to be released and sold at Fair Market Value (FMV) as determined by a certified appraisal report. The proposed subdivision and sale will subsequently result in the reduction in economic value of a total of 6.420 acres of existing airport property adjacent to the 11.972 acres being released, whereby these 6.420 acres will become landlocked and inaccessible. Due to the reduction in value of these 6.420 acres as a result of the subdivision and sale of the subject parcels, the airport will also be compensated for the reduction in value of these “uneconomic remnants” at FMV. In addition, as a condition of the land release, the airport and prospective buyer have agreed to include an access easement across the road right-of-way to allow for continued access to the aforementioned 6.420 acres by the airport sponsor.

The 11.972 acres of land to be released was originally purchased with federal financial assistance through the AIP program under Grant Agreements 3-36-0001-062-1999, 3-36-0001-092-2007, and 3-36-0001-105-2009. Therefore, the portion of the proceeds of the sale of this acreage, which is proportionate to the United States' share of the cost of acquisition of such land, will be used consistent with the requirements of 49 U.S.C. 47107(c). The remaining portion of the proceeds of the sale, is considered airport revenue, and will be used in accordance with 49 U.S.C. 47107(b) and the FAA's Policy and Procedures Concerning the Use of Airport Revenue published in the Federal Register on February 16, 1999.

The 11.972 acres to be released are part of previous purchases totaling 189.65 for reasons associated with Runway Protection Zone (RPZ) protection, obstruction control, and noise compatibility in line with a part 150 noise study. The subject area to be released, however, is not located within the RPZ, will not result in any obstructions to part 77 surfaces, and has not been identified as needed for current or future airport development in the current Airport Master Plan or ALP. Furthermore, the proposed use as a highway interchange is considered to be a compatible land use as defined by the part 150 study.

Any person may inspect the request by appointment at the FAA office address listed above. Interested persons are invited to comment. All comments will be considered by the FAA to the extent practicable.

Issued in Jamaica, New York.
Sukhbir Gill,
Acting Manager, New York Airports District Office.

[FR Doc. 2017-11585 Filed 6-5-17; 8:45 am]

BILLING CODE 4910-13-P